DEPARTMENT OF ENERGY

Federal Energy Regulatory Commission

[Docket No. EL03-207-002, et al.]

PM Interconnection, L.L.C., et al.; Electric Rate and Corporate Filings

August 8, 2003.

The following filings have been made with the Commission. The filings are listed in ascending order within each docket classification.

1. PJM Interconnection, L.L.C.

[Docket No. EL03-207-002]

Take notice that on July 23, 2003, PJM Interconnection, L.L.C. (PJM) filed a redlined version of Original Sheet No. 523E that was inadvertently omitted from the July 22, 2003 compliance filing to PJM's Open Access Transmission Tariff.

Comment Date: August 18, 2003.

2. American Electric Power Service Corporation

[Docket No. ER03-242-003]

Take notice that on July 28, 2003, PJM Interconnection, L.L.C. tendered for filing with the Federal Energy Regulatory Commission (Commission) a letter advising the Commission that there are no pending or effective PJM tariff sheets that reflect American Electric Power Service Corporation's (AEP) rates or revenue requirement originally filed by AEP in the above proceeding Tariff references to AEP's rates and revenue requirement were removed by the May 1, 2003 compliance filing in the above docket.

Comment Date: August 20, 2003.

3. Midwest Independent Transmission System Operator, Inc.

[Docket Nos. ER03-366-004, ER03-368-005]

Take notice that on August 4, 2003, the Midwest Independent Transmission System Operator, Inc. (Midwest ISO) tendered for filing proposed revisions to the Midwest ISO Open Access Transmission Tariff (Tariff), FERC Electric Tariff, Second Revised Volume No. 1, in compliance with the Commission's Order in Midwest Independent Transmission System Operator, Inc., 104 FERC ¶ 61,027 (2003). The Midwest ISO respectfully requests that the Commission grant the effective date of January 1, 2003 for the proposed revisions to the Midwest ISO Tariff submitted herewith.

The Midwest ISO states that it has served copies of its filing on all affected customers. In addition, the Midwest ISO states it has electronically served a copy of this filing, without attachments, upon all Midwest ISO Members, Member representatives of Transmission Owners and Non-Transmission Owners, the Midwest ISO Advisory Committee participants, as well as all state commissions within the region. In addition, Midwest ISO states that the filing has been electronically posted on the Midwest ISO's Web site at www.midwestiso.org under the heading “Filings to FERC” for other interested parties in this matter. The Midwest ISO states that it will provide hard copies to any interested parties upon request.

Comment Date: August 25, 2003.

4. Soyland Power Cooperative, Inc.

[Docket No. ES03-47-000]

Take notice that on August 1, 2003, Soyland Power Cooperative, Inc. (Soyland) submitted an application pursuant to section 204 of the Federal Power Act seeking authorization to enter into a short-term secured line of credit agreement not to exceed $18 million with the National Rural Utilities Cooperative Finance Corporation.

Soyland also requests a waiver from the Commission's competitive bidding and negotiated placement requirements at 18 CFR 34.2.

Comment Date: August 29, 2003.

5. Soyland Power Cooperative, Inc.

[Docket No. ES03-48-000]

Take notice that on August 1, 2003, Soyland Power Cooperative, Inc. (Soyland) submitted an application pursuant to section 204 of the Federal Power Act seeking authorization to enter into a long-term secured note not to exceed $2,858,000 with the National Rural Utilities Cooperative Finance Corporation.

Soyland also requests a waiver from the Commission's competitive bidding and negotiated placement requirements at 18 CFR 34.2.

Comment Date: August 29, 2003.

6. Soyland Power Cooperative, Inc.

[Docket No. ES03-49-000]

Take notice that on August 1, 2003, Soyland Power Cooperative, Inc. (Soyland) submitted an application pursuant to section 204 of the Federal Power Act seeking authorization to enter into a long-term secured note not to exceed $20 million with the National Rural Utilities Cooperative Finance Corporation.

Soyland also requests a waiver from the Commission's competitive bidding and negotiated placement requirements at 18 CFR 34.2.

Comment Date: August 29, 2003.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. 03-20973 Filed 8-15-03; 8:45 am]

BILLING CODE 6717-01-P